SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before June 8, 2007.

ADDRESSES: Send all comments regarding whether this information collection is necessary for the proper performance of the function of the agency, whether the burden estimates are accurate, and if there are ways to minimize the estimated burden and enhance the quality of the collection, to Michael Pappas, Associate Administrator, Office of Field Operation, Small Business Administration, 409 3rd Street, SW., 8th Floor, Washington, DC 20416.

FOR FURTHER INFORMATION CONTACT: Michael Pappas, Associate Administrator, Office of Field Operations 202-619-1727, michael.pappas@sba.gov; Curtis B. Rich, Management Analyst, 202-205-7030, curtis.rich@sba.gov.

SUPPLEMENTARY INFORMATION: Title: “Lender Relationship Management”.

Description of Respondents: Financial Institutions eligible for the SBA 7(a) program (existing and potential).

Form No: N/A.

Annual Responses: 500.

Annual Burden: 166.

Jacqueline White,
Chief, Administrative Information Branch.

[FR Doc. E7-6641 Filed 4-6-07; 8:45 am]

BILLING CODE 8025-01-P